DEPARTMENT OF TRANSPORTATION

Office of the Secretary of Transportation

[Docket No. DOT-OST-2014-XXXX]

Notice of Funding Availability for the Department of Transportation's National Infrastructure Investments under the Consolidated Appropriations Act, 2014

AGENCY: Office of the Secretary of Transportation, DOT.

ACTION: Notice of Funding Availability.

SUMMARY: This notice announces the availability of funding and requests proposals for the Department of Transportation's National Infrastructure Investments. This notice is addressed to organizations that are interested in applying and provides guidance on selection criteria and application requirements for the National Infrastructure Investments.

The Consolidated Appropriations Act, 2014 (Pub. L. 113-76, January 17, 2014) (“FY 2014 Appropriations Act”) appropriated $600 million to be awarded by the Department of Transportation (“DOT”) for National Infrastructure Investments. This appropriation is similar, but not identical, to the program funded and implemented pursuant to the American Recovery and Reinvestment Act of 2009 (the “Recovery Act”) known as the Transportation Investment Generating Economic Recovery, or “TIGER Discretionary Grants,” program. Because of the similarity in program structure, DOT will continue to refer to the program as “TIGER Discretionary Grants.” As with previous rounds of TIGER, funds for the FY 2014 TIGER program (“TIGER FY 2014”) are to be awarded on a competitive basis for projects that will have a significant impact on the Nation, a metropolitan area, or a region.

Through this notice, DOT is soliciting applications for TIGER Discretionary Grants. In the event that this solicitation does not result in the award and obligation of all available funds, DOT may decide to publish an additional solicitation(s).

DATES: You must submit final applications through Grants.gov by April 28, 2014, at 5:00 p.m. EDT (the “Application Deadline”). The Grants.gov “Apply” function will open on April 3, 2014, allowing applicants to submit applications. You are strongly encouraged to submit applications in advance of the deadline. Please be aware that you must complete the registration process before submitting an application, and that this process usually takes 2-4 weeks to complete. If interested parties experience difficulties at any point during the registration or application process, please call the Grants.gov Customer Support Hotline at 1-800-518-4726, Monday-Friday from 7:00 a.m. to 9:00 p.m. EDT. Additional information on applying through Grants.gov is available in Information about Applying for Federal Grants through Grants.gov at www.dot.gov/TIGER.

ADDRESSES: You must submit applications electronically through Grants.gov. Only applications received electronically through Grants.gov will be deemed properly filed. Instructions for submitting applications through Grants.gov can be found on the TIGER Web site (www.dot.gov/TIGER).

FOR FURTHER INFORMATION CONTACT: For further information concerning this notice please contact the TIGER Discretionary Grant program staff via email at TIGERGrants@dot.gov, or call Howard Hill at 202-366-0301. A TDD is available for individuals who are deaf or hard of hearing at 202-366-3993. In addition, DOT will regularly post answers to questions and requests for clarifications on DOT's Web site at www.dot.gov/TIGER. Applicants are encouraged to contact DOT directly rather than rely on third parties to receive information about TIGER Discretionary Grants.

SUPPLEMENTARY INFORMATION: This notice is substantially similar to the final notice published for the TIGER Discretionary Grant program in the Federal Register on April 26, 2013. However, there are a few significant differences:

1. Across the Federal Government, the Administration is dedicated to enhancing opportunity for all Americans by investing in transportation projects that better connect communities to centers of employment, education, and services (including for non-drivers) and that hold promise to stimulate long-term job growth, especially in economically distressed areas. Additional consideration will be given to proposals that seek to strengthen opportunities to expand the middle class. While the Department will award funds to a variety of project types, priority consideration will be given to applications that address this objective.

2. TIGER FY 2014 is authorized to award up to $35 million (of the program's $600 million total) for planning grants. Planning grant applications must identify themselves as project-level or regional plan applications.

3. In the previous round of TIGER, funding was available for obligation for a very short time. Therefore, DOT used project readiness as a primary criterion in awarding that funding. TIGER FY 2014 funds, in contrast, are available for obligation until the statutory deadline of September 30, 2016. This extended schedule allows DOT to encourage the submission of applications for complex and multimodal projects that may require slightly longer schedules. However, all applicants should provide schedules and evidence that they will be able to obligate funds, if awarded, by June of 2016 and expend such funds by September 30, 2021 (31 U.S.C. 1552).

4. Applications that identify project co-applicants or project partners in addition to a lead applicant must be signed by each co-applicant and/or partner organization.

Other than the differences above, and minor edits for clarification and those made to conform the notice to the statutory circumstances of this round of TIGER Discretionary Grant funding, there have been no material changes made to the notice. Each section of this notice contains information and instructions relevant to the application process for these TIGER Discretionary Grants, and you should read this notice in its entirety so that you have the information you need to submit eligible and competitive applications.

Table of Contents

I. Background and Outlook

II. Selection Criteria and Guidance on Application of Selection Criteria

III. Evaluation and Selection Process

IV. Grant Administration

V. Projects in Rural Areas

VI. TIGER Planning Grants

VII. Application Cycle

VIII. Performance Management

IX. Questions and Clarifications

I. Background and Outlook

The Transportation Investment Generating Economic Recovery or “TIGER Discretionary Grants” program was first created in the Recovery Act of 2009. Through the Recovery Act and subsequent four appropriations acts, Congress provided DOT with funding for five rounds of competitive grants totaling more than $4.1 billion for capital investments in surface transportation infrastructure. See DOT's Web site at www.dot.gov/TIGER for further background on the disbursement of past rounds of TIGER Discretionary Grants.

The FY 2014 Appropriations Act appropriated $600 million to be awarded by DOT for the TIGER Discretionary Grants program. As in previous rounds, the FY 2014 TIGER Discretionary Grants are for capital investments in surface transportation infrastructure, and are to be awarded on a competitive basis for projects that will have a significant impact on the Nation, a metropolitan area, or a region. Additionally, as in the 2010 round, the Act allows for up to $35 million (of the $600 million) to be awarded as grants for the planning of eligible transportation facilities. DOT is referring to these TIGER Discretionary Grants for planning as TIGER Planning Grants. The Act also allows DOT to use a small portion of the $600 million for oversight of grants.

“Eligible Applicants” for TIGER Discretionary Grants are State, local, and tribal governments, including U.S. territories, transit agencies, port authorities, metropolitan planning organizations (MPOs), other political subdivisions of State or local governments, and multi-State or multi-jurisdictional groups applying through a single lead applicant (for multi-jurisdictional groups, each member of the group, including the lead applicant, must be an otherwise Eligible Applicant as defined in this paragraph).

To ensure applicants receive the most accurate information possible, you must contact DOT directly, rather than through intermediaries, to get answers to questions, set up briefings on the TIGER Discretionary Grants selection and award process, or receive other assistance. Assistance can be obtained by simply contacting the TIGER Discretionary Grant program staff via email at TIGERGrants@dot.gov, or by calling Howard Hill at 202-366-0301.

Projects that are eligible for TIGER Discretionary Grants (“Eligible Projects”) for capital projects include, but are not limited to: (1) Highway or bridge projects eligible under title 23, United States Code (including bicycle and pedestrian related projects); (2) public transportation projects eligible under chapter 53 of title 49, United States Code; (3) passenger and freight rail transportation projects; (4) port infrastructure investments; and (5) intermodal projects. Projects that are eligible for TIGER Planning Grants include, but are not limited to: Activities related to the planning, preparation, or design of a single surface transportation project, or activities related to regional transportation investment planning, including transportation planning that is coordinated with interdisciplinary factors including housing, economic development, stormwater and other infrastructure investments, and/or that addresses future risks and vulnerabilities, including extreme weather and climate change. Federal wage rate requirements included in subchapter IV of chapter 31 of title 40, United States Code, apply to all projects receiving funds under this program, and apply to all parts of the project, whether funded with TIGER Discretionary Grant funds, other Federal funds, or non-Federal funds. This description of Eligible Projects is identical to the description of eligible projects under earlier rounds of the TIGER Discretionary Grant program.¹

¹ Consistent with the FY 2014 Appropriations Act, DOT will apply the following principles in determining whether a project is eligible as a capital investment or a planning study in surface transportation: (1) Surface transportation facilities generally include roads, highways and bridges, marine ports, freight and passenger railroads, transit systems, and projects that connect transportation facilities to other modes of transportation; and (2) surface transportation facilities also include any highway or bridge project eligible under title 23, U.S.C., or public transportation project eligible under chapter 53 of title 49, U.S.C. Please note that the Department may use a TIGER Discretionary Grant to pay for the surface transportation components of a broader project that has non-surface transportation components, and applicants are encouraged to apply for TIGER Discretionary Grants to pay for the surface transportation components of these projects.

As was the case in earlier rounds of the TIGER Discretionary Grant program, Eligible Projects do not include research, demonstration, or pilot projects that do not result in publicly accessible surface transportation infrastructure. To be funded, projects or elements of a project must have independent utility, which means that the project provides transportation benefits and is ready for its intended use upon completion of project construction.

Each applicant may submit no more than three applications in each category (3 capital applications and 3 planning applications). You should focus on applications that are most likely to align well with DOT's selection criteria. While applications may include requests to fund more than one project, you may not bundle together unrelated projects in the same application for purposes of avoiding the three-application limit that applies to each applicant. Please note that the three-application limit applies only to applications where the applicant is the lead applicant, and there is no limit on applications for which an applicant can be listed as a partnering agency. If you submit more than three applications as the lead applicant, only the first three received in each category will be considered.

The FY 2014 Appropriations Act specifies that TIGER Discretionary Grants may not be less than $10 million (except in rural areas) and not greater than $200 million. For projects located in rural areas (as defined in Section V, Projects in Rural Areas), the minimum TIGER Discretionary Grant size is $1 million. For TIGER Planning Grants, there is no statutory minimum grant size, regardless of location.

DOT reserves the right to award funds for a part of the project included in an application, if a part of the project has independent utility and aligns well with the selection criteria specified in this notice.

Pursuant to the FY 2014 Appropriations Act, no more than 25 percent of the funds made available for TIGER Discretionary Grants (or $150 million) may be awarded to projects in a single State.

The FY 2014 Appropriations Act directs that not less than 20 percent of the funds provided for TIGER Discretionary Grants (or $120 million) shall be used for projects located in rural areas. Further, pursuant to the FY 2014 Appropriations Act, DOT must take measures to ensure an equitable geographic distribution of grant funds, an appropriate balance in addressing the needs of urban and rural areas, and investment in a variety of transportation modes.

TIGER Discretionary Grants may be used for up to 80 percent of the costs of a project. DOT may increase the Federal share above 80 percent only for projects located in rural areas, in which case DOT may fund up to 100 percent of the costs of a project. However, priority will be given to projects that use Federal funds to complete an overall financing package, and both urban and rural projects can increase their competitiveness for purposes of the TIGER program by demonstrating significant non-Federal financial contributions. In the first five rounds, on average, projects attracted more than 3.5 additional non-Federal dollars for every TIGER grant dollar. DOT will consider any non-Federal funds, as well as funds from the Tribal Transportation Program (formerly known as Indian Reservation Roads), as a local match for purposes of this program, whether such funds are contributed by the public sector (State or local) or the private sector. However, DOT cannot consider any funds already expended (or otherwise encumbered) towards the matching requirement. Federal requirements also apply to any matching funds in your application. Therefore, the extent that a project is already underway or money intended to be matching funds is already encumbered, DOT will not consider those funds to be matching funds for the purposes of the TIGER Discretionary Grant program. You should also take note that even though “matching” funding may be provided by a State DOT or transit agency, DOT will not consider those funds to be matching funds if the source of those funds is ultimately a Federal program.

The FY 2014 Appropriations Act requires that TIGER funds are only available for obligation through September 30, 2016. DOT will, therefore, consider whether or not a project is ready to proceed with obligation of grant funds within the time provided. Under the FY 2014 Appropriations Act, TIGER funding expires automatically after the deadline of September 30, 2016, if grant funds are not obligated. There is no waiver possible under the statute for this deadline.

The FY 2014 Appropriations Act allows for an amount not to exceed 35 percent of the available funds (or $210 million of the $600 million) to be used by the Department to pay the subsidy and administrative costs for a project receiving credit assistance under the Transportation Infrastructure Finance and Innovation Act of 1998 (“TIFIA”) program, if it would further the purposes of the TIGER Discretionary Grant program.

Recipients of TIGER Discretionary Grants and TIGER Planning Grants in prior rounds may apply for funding to support additional phases of a project awarded funds in earlier rounds of this program. However, to be competitive, the applicant should demonstrate the extent to which the previously funded project phase has been able to meet estimated project schedules and budget, including the ability to realize the benefits expected for the project.

Transportation plays a critical role in expanding opportunities for every American. Recent research has found that economic mobility varies by geography, and poor transportation connections are a factor preventing some Americans from gaining access to the middle class.² This lack of access limits labor mobility and can be a drag on local and regional economic growth. Improving transportation infrastructure can be one of the easiest ways to address this problem.

² http://obs.rc.fas.harvard.edu/chetty/mobility_geo.pdf

Recognizing economic mobility as a defining trait of America's promise, the 2014 TIGER program will, in part, seek to improve access to reliable, safe, and affordable transportation for disconnected communities in urban, suburban, and rural areas. Providing opportunity to all Americans is a connecting theme that weaves together all of DOT's primary criteria. The concept can be found in the explanations of the primary criteria in this NOFA and should be addressed in applications through the description of how a proposed project addresses the primary criteria. This may include, but is not limited to, capital projects that better connect people to jobs, remove physical barriers to access, and strengthen communities through neighborhood redevelopment. Additionally, this objective may include capital projects with training opportunities that focus on strengthening human capital and workforce opportunities.

The above examples are not intended to be exhaustive, and project sponsors are strongly encouraged to highlight in their applications how their proposed capital projects will promote opportunities in ways not cited above.

DOT may consider the extent to which a proposed project strengthens access to opportunities through transportation improvements—in addition to the statutory requirements for an appropriate geographic, modal, and urban/rural distribution—as a factor to differentiate meritorious applications from one another. That said, the 2014 TIGER program will continue to fund innovative and significant projects of all types, and applications of all types are encouraged.

The purpose of this notice is to solicit applications for TIGER Discretionary Grants. This is a final notice.

II. Selection Criteria and Guidance on Application of Selection Criteria

This section specifies the criteria that DOT will use to evaluate applications for TIGER Discretionary Grants for capital projects. The criteria for TIGER Planning Grants are described in Section VI (D) of this notice. The criteria incorporate the statutory eligibility requirements for this program, which are specified in this notice as relevant. This section is divided into two parts. Part A (Selection Criteria) specifies the criteria that DOT will use to rate projects. Additional guidance about how DOT will apply these criteria, including illustrative metrics and examples, is provided in Part B (Additional Guidance on Selection Criteria).

TIGER Discretionary Grants will be awarded based on the selection criteria as outlined below. There are two categories of selection criteria, “Primary Selection Criteria” and “Secondary Selection Criteria.”

A. Primary Selection Criteria: The five primary selection criteria are based on the priorities included in DOT's Strategic Plan for FY 2012-FY 2016. Applications that do not demonstrate a likelihood of significant long-term benefits based on these criteria will not proceed in the evaluation process. For more detail on DOT's long-term priorities, please refer to the Strategic Plan, which can be found at: http://www.dot.gov/sites/dot.dev/files/docs/990_355_DOT_StrategicPlan_508lowres.pdf. DOT does not consider any primary selection criterion more important than the others. The primary selection criteria, which will receive equal consideration, are:

1. State of Good Repair: Improving the condition of existing transportation facilities and systems, with particular emphasis on projects that minimize life-cycle costs and improve resilience. DOT will assess whether and to what extent (i) the project is consistent with relevant plans to maintain transportation facilities or systems in a state of good repair and address current and projected vulnerabilities; (ii) if left unimproved, the poor condition of the asset will threaten future transportation network efficiency, mobility of goods or accessibility and mobility of people, or economic growth; (iii) the project is appropriately capitalized up front and uses asset management approaches that optimize its long-term cost structure; (iv) a sustainable source of revenue is available for operations and maintenance of the project; and (v) the project improves the transportation asset's ability to withstand probable occurrence or recurrence of an emergency or major disaster or other impacts of climate change. Additional consideration will be given to the project's contribution to improvement in the overall reliability of a multimodal transportation system that serves all users.

2. Economic Competitiveness: Contributing to the economic competitiveness of the United States over the medium- to long-term, and creating and preserving jobs. DOT will assess whether the project will (i) improve long-term efficiency, reliability or cost-competitiveness in the movement of workers or goods, with a particular focus on projects that have a significant effect on reducing the costs of transporting export cargoes; (ii) increase the economic productivity of land, capital, or labor at specific locations, particularly in Economically Distressed Areas; (iii) result in long-term job creation and other economic opportunities, particularly for low-income workers or for people in Economically Distressed Areas, and opportunities for small businesses and disadvantaged business enterprises, including veteran-owned small businesses and service-disabled veteran-owned small businesses,³ and (iv) improve economic mobility through enhanced multimodal connections to centers of employment, education, and services or the stimulation of such centers in Economically Distressed Areas.

³ The Executive Office of the President, Council of Economic Advisers (CEA), issued a memorandum in May 2009 on “Estimates of Job Creation from the American Recovery and Reinvestment Act of 2009.” That memorandum provided a simple rule for estimating job-years created by government spending, which is that $92,000 of government spending creates one job-year (or 10,870 job-years per billion dollars of spending). More recently, in September 2011, based on further analysis both of actual job-creation experience from transportation projects under the Recovery Act and on further macroeconomic analysis, the CEA determined that a job-year is created by every $76,923 in transportation infrastructure spending (or 13,000 job-years per billion dollars of transportation infrastructure spending). This figure can be used in place of the earlier $92,000/job-year estimate. Applicants can use this estimate as an appropriate indicator of direct, indirect and induced job-years created by TIGER Discretionary Grant spending, but are encouraged to supplement or modify this estimate to the extent they can demonstrate that such modifications are justified. However, since this guidance makes job creation purely a function of the level of expenditure, applicants should also demonstrate how quickly jobs will be created under the proposed project.

3. Quality of Life: Like the livability criterion in past rounds, quality of life is focused on increasing transportation choices and access to transportation services for people in communities across the United States. DOT will consider whether the project furthers the six “Livability Principles” developed by DOT with the Department of Housing and Urban Development (HUD) and the Environmental Protection Agency (EPA) as part of the Partnership for Sustainable Communities.⁴ DOT will focus on the first principle, the creation of affordable and convenient transportation choices.⁵ Projects that demonstrate this principle by providing transportation choices to connect economically disadvantaged populations, non-drivers, senior citizens, and persons with disabilities with employment, training and education will receive particular consideration. Further, DOT will prioritize projects developed in coordination with land-use planning and economic development decisions, including through programs like TIGER II Planning Grants, the Department of Housing and Urban Development's Regional Planning Grants, or the Environmental Protection Agency's Brownfield Area-Wide Planning Pilot Program, as well as technical assistance programs focused on quality of life or economic development planning.

⁴ http://www.sustainablecommunities.gov/index.html.

⁵ In full, this principle reads: “Provide more transportation choices. Develop safe, reliable and economical transportation choices to decrease household transportation costs, reduce our nations' dependence on foreign oil, improve air quality, reduce greenhouse gas emissions and promote public health.”

4. Environmental Sustainability: Improving energy efficiency, reducing dependence on oil, reducing greenhouse gas emissions, addressing stormwater through natural means, avoiding and mitigating environmental impacts and otherwise benefitting the environment. DOT will assess the project's ability to (i) reduce energy use and air or water pollution; (ii) avoid adverse environmental impacts to air or water quality, wetlands, and endangered species; (iii) provide environmental benefits, such as brownfield redevelopment, ground water recharge in areas of water scarcity, wetlands creation or improved habitat connectivity, and stormwater mitigation, including green infrastructure or (iv) improve the resilience of a transportation asset or the transportation system. Applicants are encouraged to provide quantitative information, including baseline information, that demonstrates how the project will reduce energy consumption, stormwater runoff, or achieve other benefits for the environment.

5. Safety: Improving the safety of U.S. transportation facilities and systems for all modes of transportation and users. DOT will assess the project's ability to reduce the number, rate, and consequences of surface transportation-related accidents, serious injuries, and fatalities among operators, drivers and/or non-drivers in the United States or in the affected metropolitan area or region, and/or the project's contribution to the elimination of highway/rail grade crossings, or the prevention of unintended releases of hazardous materials. DOT will consider the project's ability to foster a safe, connected, accessible transportation system for the multimodal movement of goods and people.

B. Secondary Selection Criteria

1. Innovation: Use of innovative strategies to pursue the long-term outcomes outlined above. DOT will assess the extent to which the project uses innovative technology (such as intelligent transportation systems, dynamic pricing, value capture, rail wayside or on-board energy recovery, smart cards, active traffic management or radio frequency identification) to pursue one or more of the long-term outcomes outlined above and/or to significantly enhance the operational performance of the transportation system. DOT will also assess the extent to which the project incorporates innovations in transportation funding and finance and leverages both existing and new sources of funding through both traditional and innovative means. Further, DOT will consider the extent to which the project utilizes innovative practices in contracting, congestion management, safety management, asset management, or long-term operations and maintenance. DOT is particularly interested in projects that apply innovative strategies to improve the efficiency of project development or improve overall project delivery in the area.

2. Partnership: Demonstrating strong collaboration among a broad range of participants, integration of transportation with other public service efforts, and/or projects that are the product of a robust planning process.

(a) Jurisdictional and Stakeholder Collaboration: DOT will consider the extent to which projects involve multiple partners in project development and funding, such as State and local governments, other public entities, and/or private or nonprofit entities. DOT will also assess the extent to which the project application demonstrates collaboration among neighboring or regional jurisdictions to achieve national, regional, or metropolitan benefits. In the context of public private partnerships, DOT will assess the extent to which partners are incentivized to ensure long-term asset performance, such as through pay for success approaches. Multiple States or jurisdictions may submit a joint application and must identify a lead applicant as the primary point of contact. Joint applications must include a description of the roles and responsibilities of each project party and must be signed by each project party.

(b) Disciplinary Integration: DOT will consider the extent to which projects include partnerships that bring together diverse transportation agencies and/or are supported, financially or otherwise, by non-transportation public agencies that are pursuing similar objectives. For example, DOT will give priority to transportation projects that are coordinated with economic development, housing, water infrastructure, and land use plans and policies; similarly, DOT will give priority to transportation projects that encourage energy efficiency or improve the environment and are supported by relevant public agencies with energy or environmental missions. Projects that grow out of a robust planning process—such as those conducted with DOT's various planning programs and initiatives, the Department of Housing and Urban Development's Regional Planning Grants and Choice Neighborhood Planning Grants, or the Environmental Protection Agency's Brownfield Area-Wide Planning Pilot Program, as well as technical assistance programs focused on livability or economic development planning—will also be given priority.

C. Demonstrated Project Readiness

Projects that receive funding in this round of TIGER will have to obligate funds by September 30, 2016, or the funding will expire. Therefore, DOT will assess every application to determine whether the project is likely to proceed to obligation within the statutory deadline upon receipt of a TIGER Discretionary Grant (see Additional Information on Project Readiness Guidelines located at www.dot.gov/TIGER for further details), as evidenced by:

1. Technical Feasibility: The technical feasibility of the project should be demonstrated by engineering and design studies and activities; the development of design criteria and/or a basis of design; the basis for the cost estimate presented in the TIGER application, including the identification of contingency levels appropriate to its level of design; and any scope, schedule, and budget risk-mitigation measures. Applicants must include a detailed statement of work that focuses on the technical and engineering aspects of the project and describes in detail the project to be constructed;

2. Financial Feasibility: The viability and completeness of the project's financing package (assuming the availability of the requested TIGER Discretionary Grant funds) should be demonstrated including evidence of stable and reliable capital and (as appropriate) operating fund commitments sufficient to cover estimated costs; the availability of contingency reserves should planned capital or operating revenue sources not materialize; evidence of the financial condition of the project sponsor; and evidence of the grant recipient's ability to manage grants. You must include a detailed project budget in this section of your application or applications containing a detailed breakdown of how the funds will be spent that provides estimates—both dollar amount and percentage of cost—of how much each activity would cost—e.g., preparation, grading, asphalt, etc. If the project will be completed in individual segments or phases, a budget for each individual segment or phase must be included. Budget spending categories must be broken down between TIGER, other Federal, and non-Federal sources, and identify how each funding source will share in each activity.

3. Project Schedule: You must include a detailed project schedule that includes all major project milestones—such as start and completion of environmental reviews and approvals; design; right of way acquisition; approval of plan, specification and estimate (PS&E); procurement; and construction—in this section of your application with sufficiently detailed information to demonstrate that:

(a) all necessary pre-construction activities will be complete to allow for any potential grant funding awarded to be obligated no later than June 30, 2016, to give DOT reasonable assurance that the TIGER Discretionary Grant funds will likely to be obligated sufficiently in advance of the September 30, 2016, statutory deadline, and that any unexpected delays will not put TIGER Discretionary Grant funds at risk of expiring before they are obligated;

(b) the project can begin construction quickly upon receipt of a TIGER Discretionary Grant, and that the grant funds will be spent steadily and expeditiously once construction starts; ⁶ and

⁶ The schedule should show how many direct, on-project jobs are expected to be created or sustained during each calendar quarter after the project is underway.

(c) any applicant that is applying for a TIGER Discretionary Grant and does not own all of the property or right-of-way required to complete the project should provide evidence that the property and/or right-of-way acquisition can and will be completed expeditiously.

4. Assessment of Project Risks and Mitigation Strategies: You should identify the material risks to the project and the strategies that the lead applicant and any project partners have undertaken or will undertake in order to mitigate those risks. In past rounds of TIGER Discretionary Grants, certain projects have been affected by procurement delays, environmental uncertainties, and increases in real estate acquisition costs. You must assess the greatest risks to your projects and identify how those risks will be mitigated by the project parties.

Applicants, to the extent they are unfamiliar with the Federal program, should contact DOT modal field or headquarters offices for information on what steps are pre-requisite to the obligation of Federal funds in order to ensure that their project schedule is reasonable and that there are no risks of delays in satisfying federal requirements. Contacts for the Federal Highway Administration Division offices—which are located in all 50 States, Washington, DC, and Puerto Rico—can be found at http://www.fhwa.dot.gov/about/field.cfm. Contacts for the ten Federal Transit Administration regional offices can be found at http://www.fta.dot.gov/12926.html.

D. Additional Guidance on Evaluation

1. Project Costs and Benefits

Applicants for TIGER Discretionary Grants are generally required to identify, quantify, and compare expected benefits and costs, subject to the following qualifications: ⁷

⁷ DOT has a responsibility under Executive Order 12893, Principles for Federal Infrastructure Investments, 59 FR 4233, to base infrastructure investments on systematic analysis of expected benefits and costs, including both quantitative and qualitative measures.

Applicants will be expected to prepare and submit an analysis of benefits and costs; however, DOT understands that the level of detail of analysis that should be expected (for items such as surveys, travel demand forecasts, market forecasts, and statistical analyses) is less for smaller projects than for larger projects. The level of sophistication of the benefit-cost analysis (BCA) should be reasonably related to the size of the overall project and the amount of grant funds requested in the application. Any subjective estimates of benefits and costs should still be quantified, and applicants should provide appropriate evidence to lend credence to their subjective estimates. Estimates of benefits should be presented in monetary terms whenever possible; if a monetary estimate is not possible, then at least another quantitative estimate (in physical, non-monetary terms, such as crash rates, ridership estimates, emissions levels, energy efficiency improvements, etc.) should be provided.

Based on feedback over previous rounds of TIGER, DOT recognizes that the benefit-cost analysis can be particularly burdensome on Tribal governments. Therefore, the Department is providing additional flexibility to Tribal governments for the purposes of this notice. At their discretion, Tribal applicants may elect to provide raw data to support the need for a project (such as crash rates, ridership estimates, and the number of people who will benefit from the project), without additional analysis. This data will then be used to allow DOT economists to make the best estimates they can develop (given the data provided) of benefits and costs. Examples of BCAs by successful Tribal applicants are also available online.⁸

⁸ http://www.dot.gov/policy-initiatives/tiger/tribal-tiger-bca-examples.

The lack of a useful analysis of expected project benefits and costs may be the basis for not selecting a project for award of a TIGER Discretionary Grant. If it is clear to DOT that the total benefits of a project are not reasonably likely to justify the project's costs, DOT will not award a TIGER Discretionary Grant to the project.

Detailed guidance for the preparation of benefit-cost analyses is provided in the 2014 Benefit-Cost Analyses Guidance for TIGER Grant Applicants and in the BCA Resource Guide (available at www.dot.gov/TIGER). A recording of the Benefit-Cost Analysis Practitioner's Workshop (2010) and two BCA-related webinars are also available for viewing at www.dot.gov/TIGER, along with examples of benefit-cost analyses that have been submitted in previous rounds of TIGER.

Benefits should be presented, whenever possible, in a tabular form showing benefits and costs in each year for the useful life of the project. Benefits and costs should both be discounted to the year 2014, and calculations should be presented for discounted values of both the stream of benefits and the stream of costs. If the project has multiple parts, each of which has independent utility, the benefits and costs of each part should be estimated and presented separately. The results of the benefit-cost analysis should be summarized in the Project Narrative section of the application itself, but the details may be presented in an attachment to the application if the full analysis cannot be included within the page limit for the project narrative. The requirement to conduct an economic analysis is not applicable to applicants seeking TIGER Planning Grants; however, such applicants should describe the expected benefits of the underlying project(s) that the planning activities will help advance.

2. Other Environmental Reviews and Approvals

(a) National Environmental Policy Act: An application for a TIGER Discretionary Grant must detail whether the project will significantly impact the natural, social and/or economic environment. The application should demonstrate receipt (or reasonably anticipated receipt) of all environmental approvals and permits necessary for the project to proceed to construction on the timeline specified in the project schedule and necessary to meet the statutory obligation deadline, including satisfaction of all Federal, State and local requirements and completion of the National Environmental Policy Act (“NEPA”) process. You should submit the information listed below with your application:

(i) Information about the NEPA status of the project. If the NEPA process is completed, an applicant must indicate the date of, and provide a Web site link or other reference to, the final Categorical Exclusion, Finding of No Significant Impact or Record of Decision. If the NEPA process is underway but not complete, the application must detail the type of NEPA review underway, where the project is in the process, and indicate the anticipated date of completion. You must provide a Web site link or other reference to copies of any NEPA documents prepared.

(ii) Information on reviews by other agencies. An application for a TIGER Discretionary Grant must indicate whether the proposed project requires reviews or approval actions by other agencies, indicate the status of such actions, and provide detailed information about the status of those reviews or approvals and/or demonstrate compliance with any other applicable Federal, State, or local requirements.

(iii) Environmental studies or other documents—preferably by way of a Web site link—that describe in detail known project impacts, and possible mitigation for those impacts.

(iv) A description of discussions with the appropriate DOT modal administration field or headquarters office regarding compliance with NEPA and other applicable environmental reviews and approvals.

(b) Legislative Approvals: Receipt of all necessary legislative approvals (for example, legislative authority to charge user fees or set toll rates), and evidence of support from State and local elected officials. Support from all relevant State and local officials is not required; however, you should demonstrate that the project is broadly supported.

(c) State and Local Planning: The planning requirements of the operating administration administering the TIGER project will apply.⁹ You should demonstrate that a project that is required to be included in the relevant State, metropolitan, and local planning documents has been or will be included. If the project is not included in the relevant planning documents at the time the application is submitted, you should submit a certification from the appropriate planning agency that actions are underway to include the project in the relevant planning document. DOT reserves the right to revoke any award of TIGER Discretionary Grant funds and to award such funds to another project to the extent either that such funds cannot be timely expended and/or that construction does not begin in accordance with the project schedule. Because projects have different schedules, DOT will consider on a case-by-case basis how much time after selection for award of a TIGER Discretionary Grant each project has before funds must be obligated (consistent with law) and construction started through an executed grant agreement between the selected applicant and the relevant modal administration administering the grant. This deadline will be specified for each TIGER Discretionary Grant in the project-specific grant agreements signed by the grant recipients and will be based on critical path items identified by applicants in response to items (a)(i) through (iv) above.

⁹ All regionally significant projects requiring an action by the Federal Highway Administration (FHWA) or the Federal Transit Administration (FTA) must be in the metropolitan transportation plan, transportation improvement program (TIP) and statewide transportation improvement program (STIP). Further, in air quality non-attainment and maintenance areas, all regionally significant projects, regardless of the funding source, must be included in the conforming metropolitan transportation plan and TIP. To the extent a project is required to be on a metropolitan transportation plan, TIP, and/or STIP, it will not receive a TIGER Discretionary Grant until it is included in such plans. Projects not currently included in these plans can be amended by the State and metropolitan planning organization (MPO). Projects that are not required to be in long range transportation plans, STIPs, and TIPs will not need to be included in such plans in order to receive a TIGER Discretionary Grant. Freight and passenger rail projects are not required to be on the State Rail Plans called for in the Passenger Rail Investment and Improvement Act of 2008. This is consistent with the exemption for high-speed and intercity passenger rail projects under the Recovery Act. However, applicants seeking funding for freight and passenger rail projects are encouraged to demonstrate that they have done sufficient planning to ensure that projects fit into a prioritized list of capital needs and are consistent with long-range goals.

III. Evaluation and Selection Process

A. Evaluation Process

TIGER Discretionary Grant applications will be evaluated in accordance with the evaluation process discussed below. DOT will establish application evaluation teams to review each application that is received by DOT prior to the Application Deadline. These evaluation teams will be organized and led by the Office of the Secretary of Transportation and will include members from each of the Relevant Modal Administrations and, in some cases, staff from other Federal agencies with relevant expertise, including freight, resilience, quality of life, environmental review, and permitting expertise. The evaluation teams will be responsible for evaluating and rating all of the projects and making funding recommendations to the Secretary.

DOT will not assign specific numerical scores to projects based on the selection criteria outlined above in Section II(A) (Selection Criteria). Rather, ratings of “highly recommended,” “recommended,” “acceptable,” or “not recommended” will be assigned to projects. DOT will award TIGER Discretionary Grants to projects that are well-aligned with one or more of the selection criteria. In addition, DOT will consider whether a project has a negative effect on any of the selection criteria, and any such negative effect may reduce the likelihood that the project will receive a TIGER Discretionary Grant.

DOT will give more consideration to the Primary Selection Criteria than to the two Secondary Selection Criteria (Innovation and Partnership), which will also be considered equally

Projects that are recommended by the evaluation teams for further review will have their benefit-cost analyses evaluated by an Economic Analysis Team, and will have their project readiness evaluated by a Project Readiness Team. The Economic Analysis Team will assess the likelihood that the project's benefits will exceed its costs, and the Project Readiness Team will assess the likelihood that the project will be able to obligate any grant awarded to it by the obligation deadline of September 30, 2016. The results of these evaluations will also be taken into account in the recommendations made to the Secretary.

Upon completion of this rating process, DOT will analyze the preliminary list and determine whether highly-rated projects are consistent with the distributional requirements of the FY 2014 Appropriations Act, including an equitable geographic distribution of grant funds, an appropriate balance in addressing the needs of urban and rural areas, and investment in a variety of transportation modes. If necessary, DOT will adjust the list of recommended projects to satisfy the statutory distributional requirements while remaining as consistent as possible with the competitive ratings. The Secretary of Transportation will make the final project selections.

B. Evaluation of Eligibility

To be selected for a TIGER Discretionary Grant, a project must be an Eligible Project and the applicant must be an Eligible Applicant. DOT may consider one or more components of a large project to be an Eligible Project, but only to the extent that the components have independent utility, meaning the components themselves, not the project of which they are a part, are Eligible Projects and satisfy the selection criteria identified above in Section II(A) (Selection Criteria). For these projects, the benefits described in an application must be related to the components of the project for which funding is requested, not the full project of which they are a part. DOT will not fund individual phases of a project if the benefits of completing only these phases would not align well with the selection criteria specified in this notice because the overall project would still be incomplete.

IV. Grant Administration

DOT expects that each TIGER Discretionary Grant will be administered by one of the Relevant Modal Administrations, pursuant to a grant agreement between the TIGER Discretionary Grant recipient and the Relevant Modal Administration. Service Outcome Agreements, Stakeholder Agreements, Buy America compliance, and other requirements under DOT's other highway, transit, rail, and port grant programs will be incorporated into the TIGER grant agreements, where appropriate. The Secretary has the discretion to delegate such responsibilities to the appropriate Relevant Modal Administration.

Applicable Federal laws, rules, and regulations of the Relevant Modal Administration administering the project will apply to projects that receive TIGER Discretionary Grants.

V. Projects in Rural Areas

The FY 2014 Appropriations Act directs that not less than $120 million of the funds provided for TIGER Discretionary Grants are to be used for projects in rural areas. For purposes of this notice, DOT is defining “rural area” as any area not in an Urbanized Area, as such term is defined by the Census Bureau,¹⁰ and will consider a project to be in a rural area if all or the majority of a project (determined by geographic location(s) where the majority of project money is to be spent) is located in a rural area. Therefore, if all or the majority of a project is located in a rural area, such a project is eligible to apply for less than $10 million, but at least $1 million in TIGER Discretionary Grant funds, and up to 100 percent of the project's costs may be paid for with Federal funds. To the extent more than a de minimis portion of a project is located in an Urbanized Area, you should identify the estimated percentage of project costs that will be spent in Urbanized Areas and the estimated percentage that will be spent in rural areas.

¹⁰ For Census 2010, the Census Bureau defined an Urbanized Area (UA) as an area that consists of densely settled territory that contains 50,000 or more people. Updated lists of UAs are available on the Census Bureau Web site. Urban Clusters (UCs) will be considered rural areas for purposes of the TIGER Discretionary Grant program.

VI. TIGER Planning Grants

A. Background

On December 16, 2009, the President signed the Fiscal Year (FY) 2010 Consolidated Appropriations Act, which appropriated $600 million to DOT for National Infrastructure Investments, including up to $35 million for planning.

That round of planning grants was conducted in conjunction with $40 million in HUD Community Challenge grants. Thirty-three total DOT planning grants were made, including 14 joint grants with HUD. In this round, DOT will not be able to pair TIGER planning grants with HUD Community Challenge grants due to the lack of available HUD funds. However, those applicants seeking to fund regional transportation planning grants should show strong coordination with housing, land use, economic development, stormwater, and other infrastructure needs, including identifying risks from extreme weather and climate change, and plans to mitigate that risk.

B. Eligible Planning Activities

Activities eligible for funding under TIGER Planning Grants are related to the planning, preparation, or design—including environmental analysis, feasibility studies, and other pre-construction activities—of surface transportation projects, including, but not limited to:

(1) Highway or bridge projects eligible under Title 23, United States Code (including bicycle and pedestrian related projects);

(2) Public transportation projects eligible under Chapter 53 of Title 49, United States Code;

(3) Passenger and freight rail transportation projects;

(4) Port infrastructure investments; and

(5) Intermodal projects.

In addition, eligible activities related to multidisciplinary projects or regional planning may include:

(1) Development of master plans, comprehensive plans, or corridor plans that will provide connection to jobs for disadvantaged populations, or include affordable housing components.

(2) Planning activities related to the development of a multimodal freight corridor, including those that seek to reduce conflicts with residential areas and with passenger and non-motorized traffic.

(3) Development of port and regional port planning grants, including State-wide or multi-port planning within a single jurisdiction or region.

(4) Planning to encourage multiple projects within a common area to engage in programmatic mitigation in order to increase efficiency and improve outcomes for communities and the environment.

(5) Risk assessments and planning to identify vulnerabilities and address the transportation system's ability to withstand probable occurrence or recurrence of an emergency or major disaster or impacts of climate change.

C. Selection Criteria

Planning grant applications will be evaluated against the same criteria as capital grants. For project-level planning, this means considering how the project resulting from the plan will ultimately further the five primary and two secondary criteria. For regional transportation planning efforts, applications should demonstrate how the regional plan will help lead to these outcomes.

Similar to capital grant applications, planning applications will be more competitive if they can demonstrate funding support above the 20 percent match requirement for urban areas, and the 0 percent match requirement for rural areas.

Additionally, applicants should show the capacity to successfully implement the proposed activities in a timely manner.

VII. Application Cycle

A. Contents of Applications

You must include all of the information requested below in your application. DOT reserves the right to ask any applicant to supplement data in its application, but expects applications to be complete upon submission. To the extent practical, you should provide data and evidence of project merits in a form that is publicly available or verifiable.

1. Standard Form 424, Application for Federal Assistance

Additional clarifying guidance and FAQs to assist you in completing the SF-424 will be available at www.dot.gov/TIGER by April 3, 2014, when the “Apply” function within Grants.gov opens to accept applications under this notice.

2. Title Page

The title page must include the project title, location (city, State, district), type of application (capitol, project planning, or regional planning), the applicant organization name, the type of eligible applicant (State government, local government, U.S. territory, Tribal government, transit agency, port authority, MPO, RDO, other unit of government), and the amount of TIGER funding being applied for. The information may be presented in a table or formatted list.

3. Project Narrative (Attachment to SF 424)

The project narrative must respond to the application requirements outlined below. DOT recommends that the project narrative be prepared with standard formatting preferences (.i.e., a single-spaced document, using a standard 12-point font, such as Times New Roman, with 1-inch margins).

Your application must include information required for DOT to assess each of the criteria specified in Section II (A) (Selection Criteria), as such criteria are explained in Section II(B) (Additional Guidance on Selection Criteria). You must demonstrate the responsiveness of a project to any pertinent selection criteria with the most relevant information that you can provide, regardless of whether such information has been specifically requested, or identified, in this notice. You should provide concrete evidence of the feasibility of achieving project milestones, and of financial capacity and commitment in order to support project readiness. DOT will give priority to projects for which a TIGER Discretionary Grant will help to complete an overall funding package, so you should clearly demonstrate the extent to which the project cannot be readily and efficiently completed without a TIGER Discretionary Grant, and the extent to which other sources of funds, including Federal, State, or local funding, may or may not be readily available for the project. Any such information shall be considered part of the application, not supplemental, for purposes of the application size limits identified below in Part B (Length of Applications). Information provided pursuant to this paragraph must be quantified, to the extent possible, to describe the project's benefits to the Nation, a metropolitan area, or a region. Information provided pursuant to this paragraph should include projections for both the build and no-build scenarios for the project for each year between the completion of the project and a point in time at least 20 years beyond the project's completion date or the lifespan of the project, whichever is closer to the present.

All applications should include a detailed description of the proposed project and geospatial data for the project, including a map of the project's location and its connections to existing transportation infrastructure. An application should also include a description of how the project addresses the needs of an urban and/or rural area. An application should clearly describe the transportation challenges that the project aims to address, the project's potential vulnerabilities to extreme weather and climate change throughout its projected life, and how the project will address these challenges. The description should include relevant data, such as passenger or freight volumes, congestion levels, infrastructure condition, and safety experience.

DOT recommends that the project narrative generally adhere to the following basic outline and, in addition to a detailed statement of work, detailed project schedule, and detailed project budget, you should include a table of contents, maps, and graphics that make the information easier to review:

I. Project Description (including information on the expected users of the project, a description of the transportation challenges that the project aims to address, and how the project will address these challenges);

II. Project Parties (information about the grant recipient and other project parties);

III. Grant Funds and Sources/Uses of Project Funds (information about the amount of grant funding requested, availability/commitment of funds sources and uses of all project funds, total project costs, percentage of project costs that would be paid for with TIGER Discretionary Grant funds, and the identity and percentage shares of all parties providing funds for the project (including any other pending or past Federal funding requests for the project as well as Federal funds already provided under other programs and required match for those funds);

IV. Selection Criteria (information about how the project aligns with each of the primary and secondary selection criteria and a description of the results of the benefit-cost analysis):

a. Primary Selection Criteria

i. State of Good Repair

ii. Economic Competitiveness

iii. Quality of Life

iv. Environmental Sustainability

v. Safety

b. Secondary Selection Criteria

i. Innovation

ii. Partnership

c. Results of Benefit-Cost Analysis

V. Project readiness, including planning approvals, NEPA and other environmental reviews/approvals, (including information about permitting, legislative approvals, State and local planning, and project partnership and implementation agreements); and

VI. Federal Wage Rate Certification (an application must include a certification, signed by the applicant(s), stating that it will comply with the requirements of subchapter IV of chapter 31 of title 40, United States Code (Federal wage rate requirements), as required by the FY 2014 Continuing Appropriations Act).

The purpose of this recommended format is to ensure that applications clearly address the program requirements and make critical information readily apparent.

B. Length of Applications

The project narrative may not exceed 30 pages in length. Documentation supporting the assertions made in the narrative portion may also be provided, but should be limited to relevant information. If possible, Web site links to supporting documentation (including a more detailed discussion of the benefit-cost analysis) should be provided rather than copies of these materials. Spreadsheets supporting the benefit-cost analysis should be original Excel spreadsheets, not PDFs of those spreadsheets. At your discretion, relevant materials provided previously to a Relevant Modal Administration in support of a different DOT discretionary program (for example, New Starts or TIFIA) may be referenced and described as unchanged. To the extent referenced, this information need not be resubmitted for the TIGER Discretionary Grant application (although provision of a Web site link would facilitate DOT's consideration of the information). DOT recommends use of appropriately descriptive file names (e.g., “Project Narrative,” “Maps,” “Memoranda of Understanding and Letters of Support,” etc.) for all attachments. Cover pages and tables of contents do not count towards the 30-page limit for the narrative portion of the application, and the federal wage rate certification may also be outside of the 30-page narrative. Otherwise, the only substantive portions of the application that should exceed the 30-page limit are any supporting documents (including a more detailed discussion of the benefit-cost analysis) provided to support assertions or conclusions made in the 30-page narrative section.

C. Contact Information

Contact information for a direct employee of the lead applicant organization is required as part of the SF-424. DOT will use this information to inform parties of DOT's decision regarding selection of projects, as well as to contact parties in the event that DOT needs additional information about an application. Contact information for a contractor, agent, or consultant of the lead applicant organization is insufficient for DOT's purposes.

D. Protection of Confidential Business Information

All information submitted as part of or in support of any application shall use publicly available data or data that can be made public and methodologies that are accepted by industry practice and standards, to the extent possible. If the application includes information you consider to be a trade secret or confidential commercial or financial information, you should do the following: (1) Note on the front cover that the submission “Contains Confidential Business Information (CBI);” (2) mark each affected page “CBI;” and (3) highlight or otherwise denote the CBI portions. DOT protects such information from disclosure to the extent allowed under applicable law. In the event DOT receives a Freedom of Information Act (FOIA) request for the information, DOT will follow the procedures described in its FOIA regulations at 49 CFR 7.17. Only information that is ultimately determined to be confidential under that procedure will be exempt from disclosure under FOIA.

VIII. Performance Management

Each applicant selected for TIGER Discretionary Grant capital grant funding will be required to work with DOT on the development and implementation of a plan to collect information and report on the project's performance with respect to the relevant long-term outcomes that are expected to be achieved through construction of the project. Each recipient of a TIGER Discretionary Grant will, in accordance with its grant agreement, report on specified performance indicators for its project. Performance indicators will be negotiated for each project, considerate of the individual project's stated goals as well as resource constraints of applicants. Performance indicators will not include formal goals or targets, but will include baseline measures as well as post-project outcomes for an agreed-upon timeline, and will inform the TIGER Discretionary Grant program in working towards best practices, programmatic performance measures, and future decisionmaking guidelines.

IX. Questions and Clarifications

For further information concerning this notice please contact the TIGER Discretionary Grant program staff via email at TIGERGrants@dot.gov, or call Howard Hill at 202-366-0301. A TDD is available for individuals who are deaf or hard of hearing at 202-366-3993. DOT will regularly post answers to these questions and other important clarifications on DOT's Web site at www.dot.gov/TIGER.

Issued on February 25, 2014.
Anthony R. Foxx,
Secretary.

[FR Doc. 2014-04627 Filed 2-28-14; 8:45 am]

BILLING CODE 4910-9X-P